DEPARTMENT OF LABOR

Employment and Training Administration

[TA-W-59,204]

Ronfeldt Associates, Inc., Toledo, OH; Notice of Termination of Investigation

Pursuant to section 221 of the Trade Act of 1974, as amended, an investigation was initiated on April 13, 2006 in response to a worker petition filed by a company official on behalf of workers at Ronfeldt Associates, Inc., Toledo, Ohio.

The petitioner has requested that the petition be withdrawn. Consequently, the investigation has been terminated.

Signed at Washington, DC, this 12th day of May 2006.
Richard Church,
Certifying Officer, Division of Trade Adjustment Assistance.

[FR Doc. E6-8059 Filed 5-24-06; 8:45 am]

BILLING CODE 4510-30-P